DEPARTMENT OF THE INTERIOR

Bureau of Land Management

[Docket No. UT-912-01-1150-AE-24-1A]

Notice of Utah Resource Advisory Council Meeting

AGENCY: Bureau of Land Management, Interior.

ACTION: Notice of Utah Resource Advisory Council meeting.

SUMMARY: The Bureau of Land Management's Utah Statewide Resource Advisory Council will be having a one-day Orientation to BLM meeting on February 6, 2001.

The meeting is being held at the Bureau of Land Management's Utah State Office, 324 South State Street, Salt Lake City, from 8:00 until 4:00. A public comment period is scheduled from 12:30-1:00, where members of the public may address the council. All meetings are open to the public, however, transportation, lodging, and meals are the responsibility of the participating public.

FOR FURTHER INFORMATION CONTACT: Contact Sherry Foot, Special Programs Coordinator, Utah State Office, Bureau of Land Management, 324 South State Street, Salt Lake City, Utah, 84111: phone (801) 539-4195.

Dated: December 19, 2000.
Sally Wisely,
State Director.

[FR Doc. 00-33015 Filed 12-26-00; 8:45 am]

BILLING CODE 4310-55-M